DEPARTMENT OF ENERGY

Orders Granting Authority To Import and Export Natural Gas, To Import and Export Liquefied Natural Gas and Vacating Prior Authority During July 2013

| FE Docket Nos.
ELEMENT MARKETS RENEWABLE ENERGY, LLC)
TIDAL ENERGY MARKETING (U.S.) LLC) | 13-75-NG
HUDSON ENERGY SERVICES, LLC) | 13-71-NG
SABINE PASS LIQUEFACTION, LLC) | 13-30-LNG
J.P. MORGAN COMMODITIES CORPORATION) | 13-76-NG
J.P. MORGAN VENTURES ENERGY CORPORATION) | 13-77-NG
SEMPRA LNG INTERNATIONAL, LLC) | 13-78-NG
J.P. MORGAN VENTURES ENERGY CORPORATION) | 13-79-LNG
JUST ENERGY ONTARIO LP) | 13-80-NG
SAN DIEGO GAS & ELECTRIC COMPANY) | 13-85-NG
CAMBRIDGE ENERGY) | 13-83-LNG
STANDARD NATURAL GAS, INC.) | 13-81-LNG
CASTLETON COMMODITIES CANADA LP) 1 | 3-87-NG
PROLIANCE ENERGY, LLC) | 11-110-NG
FREEPORT LNG DEVELOPMENT, LP) | 13-51-LNG

AGENCY: Office of Fossil Energy, Department of Energy (DOE).

ACTION: Notice of orders.

SUMMARY: The Office of Fossil Energy (FE) of the Department of Energy gives notice that during July 2013, it issued orders granting authority to import and export natural gas, to import and export liquefied natural gas and to vacate prior authority. These orders are summarized in the attached appendix and may be found on the FE Web site at http://www.fossil.energy.gov/programs/gasregulation/authorizations/Orders-2013.html. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC on August 22, 2013.
Marc P. Talbert,
Acting Manager, Natural Gas Regulatory Activities, Office of Oil and Gas Global Security and Supply, Office of Fossil Energy.

Appendix

DOE/FE Orders Granting Import/Export Authorizations
3303 | 07/11/13 | 13-72-NG | Element Markets Renewable Energy, LLC | Order granting blanket authority to import natural gas from Canada/Mexico.
3304 | 07/11/13 | 13-75-NG | Tidal Energy Marketing (U.S.) L.L.C. | Order granting blanket authority to import/export natural gas from/to Canada.
3305 | 07/11/13 | 13-71-NG | Hudson Energy Services, LLC | Order granting blanket authority to import/export natural gas from/to Canada.
3306 | 07/11/13 | 13-30-LNG | Sabine Pass Liquefaction, LLC | Order granting authorization to export LNG by vessel pursuant to the long-term contract with Total Gas & Power North America, Inc. from the Sabine Pass LNG Terminal to Free Trade Agreement Nations.
3307 | 07/12/13 | 13-42-NG | Sabine Pass Liquefaction, LLC | Order granting authorization to export LNG by vessel pursuant to the long-term contract with Centrica PLC from the Sabine Pass LNG Terminal to Free Trade Agreement Nations.
3308 | 07/18/13 | 13-76-NG | J.P. Morgan Commodities Corporation | Order granting blanket authority to import/export natural gas from/to Canada.
3309 | 07/18/13 | 13-77-NG | J.P. Morgan Ventures Energy Corporation | Order granting blanket authority to import/export natural gas from/to Canada/Mexico.
3310 | 07/18/13 | 13-78-NG | Sempra LNG International, LLC | Order granting blanket authority to import/export natural gas from/to Mexico.
3311 | 07/18/13 | 13-79-LNG | J.P. Morgan Ventures Energy Corporation | Order granting blanket authority to import LNG from various international sources by vessel.
3312 | 07/18/13 | 13-80-NG | Just Energy Ontario L.P. | Order granting blanket authority to import/export natural gas from/to Canada.
3313 | 07/18/13 | 13-85-NG | San Diego Gas & Electric Company | Order granting blanket authority to import/export natural gas from/to Mexico.
3314 | 07/18/13 | 13-83-LNG | Cambridge Energy | Order granting blanket authority to import LNG from various international sources by vessel, and to export LNG to Canada/Mexico by vessel.
3315 | 07/18/13 | 13-81-LNG | Standard Natural Gas, Inc. | Order granting blanket authority to import/export LNG from/to Canada/Mexico by truck.
3316 | 07/18/13 | 13-87-NG | Castleton Commodities Canada LP | Order granting blanket authority to import/export natural gas from/to Canada.
3011-A | 07/18/13 | 11-110-NG | ProLiance Energy, LLC | Order vacating blanket authority to import/export natural gas from/to Canada.
3317 | 07/19/13 | 13-51-LNG | Freeport LNG Development, L.P. | Order granting blanket authority to export previously imported LNG by vessel.

[FR Doc. 2013-21216 Filed 8-29-13; 8:45 am]

BILLING CODE 6450-01-P